DEPARTMENT OF TRANSPORTATION

Federal Aviation Administration

14 CFR Part 73

[Docket No. FAA-2002-12100; Airspace Docket No. 02-AGL-5]

RIN 2120-AA66

Change Using Agency to Restricted Area R-4305; Lake Superior, MN

AGENCY: Federal Aviation Administration (FAA), DOT.

ACTION: Final rule.

SUMMARY: This action amends the using agency for Restricted Area R-4305 Lake Superior, MN. Specifically, this action changes the using agency from “USAF, Detachment 1, HQ Air Combat Command (DOSR), Offutt AFB, NE” to “USAF, 55th Wing, Offutt AFB, NE.” This rule makes no other changes to R-4305. The FAA is issuing this amendment because the DOSR is no longer in existence.

EFFECTIVE DATE: 0901 UTC, August 8, 2002.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Background

On February 2, 2002, the United States Air Force (USAF) requested that the FAA take action to change the using agency of R-4305 from “USAF, Detachment 1, HQ Air Combat Command (DOSR), Offutt AFB, NE” to “USAF, 55th Wing, Offutt AFB, NE.” This change is needed because the DOSR is no longer in existence and the 55th Wing, Offutt AFB has assumed the responsibility of the using agency for R-4305.

The Rule

This amendment to 14 CFR part 73 changes the using agency of R-4305 from “USAF, Detachment 1, HQ Air Combat Command (DOSR), Offutt AFB, NE” to “USAF, 55th Wing, Offutt AFB, NE.” No other changes to R-4305 are made by this action.

Since this action simply changes the using agency for the restricted area and does not involve a change in the dimensions or operations requirements of that airspace, notice and public procedure under 5 U.S.C. 553(b) are unnecessary. Section 73.43 of part 73 was republished in FAA Order 7400.8J, dated September 20, 2001.

This regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Since it has been determined that this is a routine matter that will only affect air traffic procedures and air navigation, it is certified that this rule will not have a significant economic impact on a substantial number of small entities under the criteria of the Regulatory Flexibility Act.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.43 [Amended]

2. Section 73.43 is amended as follows:

* * * * *

R-4305 Lake Superior, MN [Amended]

By removing the words “Using Agency. USAF, Detachment 1, HQ Air Combat Command (DOSR), Offutt AFB, NE” and inserting the words “Using Agency. USAF, 55th Wing, Offutt AFB, NE.”

* * * * *

Issued in Washington, DC, on June 14, 2002.
Reginald C. Matthews,
Manager, Airspace and Rules Division.

[FR Doc. 02-15601 Filed 6-19-02; 8:45 am]

BILLING CODE 4910-13-P